DEPARTMENT OF JUSTICE

Antitrust Division

Notice Pursuant to the National Cooperative Research and Production Act of 1993—Controlnet International, LTD

Notice is hereby given that, on February 10, 2006, pursuant to Section 6(a) of the National Cooperative Research and Production Act of 1993, 15 U.S.C. 4301 et seq. “the Act”), ControlNet International, Ltd. (“ControlNet”) has failed written notification simultaneously with the Attorney General and the Federal Trade Commission disclosing changes in its membership. The notifications were filed for the purpose of extending the Act's provisions limiting the recovery of antitrust plaintiffs to actual damages under specified circumstances. Specifically, Woodhead Software & Electronics, Waterloo, Ontario, Canada has been added as a party to this venture. Also, Fujikura, Ltd., Tokyo, Japan has withdrawn as a party to this venture.

No other changes have been made in either the membership in this group research project remains open, and ControlNet intends to file additional written notification disclosing all changes in membership.

On February 3, 2005, ControlNet filed its original notification pursuant to Section 6(a) of the Act. The Department of Justice published a notice in the Federal Register pursuant to Section 6(b) of the Act on March 1, 2005 (70 FR 9979).

The last notification was filed with the Department on September 1, 2005. A notice was published in the Federal Register pursuant to Section 6(b) of the Act on September 23, 2005 (70 FR 55920).

Dorothy B. Fountain,
Deputy Director of Operations, Antitrust Division.

[FR Doc. 06-2133 Filed 3-6-06; 8:45 am]

BILLING CODE 4410-11-M